DEPARTMENT OF JUSTICE

National Institute of Corrections

Solicitation for a Cooperative Agreement: Strategic Essentials for the Advancement of Women Executives in Corrections; Submission Date Extended

The following funding opportunity was published on Thursday, December 15, 2011. Document Number 2011-32121. Solicitation for a Cooperative Agreement—Strategic Essentials for the Advancement of Women Executives in Corrections. Funding Opportunity Number 12PR02, found on pages 78047-78049.

“NOTICE”—The date for submission of applications has been extended to 2 p.m. EDT on Thursday, March 15, 2012. Curriculum delivery to the National Institute of Corrections (NIC) will be no later than July 1, 2012. The applicant will be expected to deliver the training between October, 2012 and June, 2013. The training program will be announced on NIC's Web site in Fiscal Year 2013.

Morris L. Thigpen,
Director, National Institute of Corrections.

[FR Doc. 2012-155 Filed 1-9-12; 8:45 am]

BILLING CODE 4410-36-P